DEPARTMENT OF ENERGY

Federal Energy Regulatory Commission

[Docket No. RP02-241-002]

Williams Gas Pipelines Central, Inc.; Notice of Filing of Penalty Revenue Report

October 1, 2002.

Take notice that on August 6, 2002, Williams Gas Pipelines Central, Inc. (Williams) tendered for filing a second revised page 6 of Schedule 1 to its report of penalty revenue collected during Periods of Daily Balancing (PODB), filed April 30, 2002 in Docket No. RP02-241-000, and the subsequent revised report filed July 23, 2002 in Docket No. RP02-241-001.

Williams states that it made a revised filing on July 23, 2002 to report the amount of penalty revenue collected pursuant to the provisions of Article 9.6 of the General Terms and Conditions of its FERC Gas Tariff during Periods of Daily Balancing (PODB) occurring in the 1995-96 and 1996-97 winter heating seasons, and the proposed distribution of such revenue. Williams' July 23, 2002 filing contained an inadvertent error related to an allocation of refunds to a party who should not have received a refund, as reflected on second revised page 6 of Schedule 1.

Williams states that a copy of its filing was served on all participants listed on the service list maintained by the Commission in the docket referenced above, as well as all of Williams' jurisdictional customers and interested state commissions.

Any person desiring to protest said filing should file a protest with the Federal Energy Regulatory Commission, 888 First Street, NE, Washington, DC 20426, in accordance with section 385.211 of the Commission's Rules and Regulations. All such protests must be filed on or before October 8, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25547 Filed 10-7-02; 8:45 am]

BILLING CODE 6717-01-P